DEPARTMENT OF ENERGY

Federal Energy Regulatory Commission

[Docket No. EL13-35-000]

Southwestern Public Service Company; Southwest Power Pool, Inc.; Notice of Complaint

Take notice that on December 31, 2012, pursuant to section 206 of the Federal Power Act (FPA), 16 U.S.C. 824e (2000), Southwestern Public Service Company (Complainant) filed a formal complaint against Southwest Power Pool, Inc. (Respondent), requesting the establishment of a January 1, 2013 refund effective date and a finding from the Federal Energy Regulatory Commission (Commission) that the Respondent has violated the FPA by implementing a 40 percent increase in the Tri-County Electric Cooperative, Inc. Annual Transmission Revenue Requirement through an annual update under transmission formula rate protocols that are not just and reasonable.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Comment Date: 5:00 p.m. Eastern Time on January 22, 2013.

Dated: January 3, 2013.
Kimberly D. Bose,
Secretary.

[FR Doc. 2013-00267 Filed 1-8-13; 8:45 am]

BILLING CODE 6717-01-P